DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2011, there were four applications approved. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Louisville Regional Airport Authority, Louisville, Kentucky.

Application Number: 11-06-C-00-SDF.

Application Type: Impose and use a PFC.

PFC Level: $4.50.

Total PFC Revenue Approved in this Decision: $2,123,882.

Earliest Charge Effective Date: June 1, 2015.

Estimated Charge Expiration Date: November 1, 2016.

Class Of Air Carriers Not Required To Collect PFC's: Air taxi/commercial operators filing FAA Form 1800-31.

Determination: Approved. Based on information contained in the public agency's application, the FAA has determined that the approved class accounts for less than 1 percent of the total annual enplanements at Louisville International Airport.

Brief Description of Projects Approved for Collection and Use at a $4.50 PFC Level:

Purchase aircraft rescue and firefighting truck, 1,500 gallons.

Construct taxiway E—phase 1.

Jet bridges purchase and rehabilitation.

Snow blowers.

Sound insulation program.

Brief Description of Project Approved for Collection and Use at a $3.00 PFC Level: PFC implementation and administrative costs.

Decision Date: February 2, 2011.

For Further Information Contact: Cynthia Wills, Memphis Airports District Office, (901) 322-8190.

Public Agency: Greenbrier County Airport Authority, Lewisburg, West Virginia.

Application Number: 11-01-C-00-LWB.

Application Type: Impose and use a PFC.

PFC Level: $4.50.

Total PFC Revenue Approved in this Decision: $1,104,958.

Earliest Charge Effective Date: April 1, 2011.

Estimated Charge Expiration Date: January 1, 2015.

Class of Air Carriers Not Required To Collect PFC's: None.

Brief Description of Projects Approved for Collection and Use:

Improve terminal building.

Improve runway safety area.

Conduct aeronautical survey for wide area augmentation system approach.

Expand apron.

Improve airport drainage.

Security enhancements.

Acquire safety equipment.

Rehabilitate taxiway.

Construct aircraft rescue and firefighting building.

Rehabilitate runway lighting.

Acquire aircraft rescue and firefighting vehicle.

Rehabilitate apron.

Conduct airport master plan study.

Improve airport drainage.

Acquire snow removal equipment.

Improve snow removal equipment building.

Rehabilitate runway.

Acquire equipment.

Acquire security equipment.

Rehabilitate airport beacons.

Decision Date: February 11, 2011.

For Further Information Contact: Matthew DiGiulian, Beckley Airports Field Office, (304) 252-6217.

Public Agency: County of Kenton and Kenton County Airport Board, Covington, Kentucky.

Application Number: 11-13-C-00-CVG.

Application Type: Impose and use a PFC.

PFC Level: $4.50.

Total PFC Revenue Approved in this Decision: $32,958,000.

Earliest Charge Effective Date: December 1, 2015.

Estimated Charge Expiration Date: February 1, 2018.

Classes of Air Carriers Not Required To Collect PFC's: (1) Part 121 supplemental operators which operate at the airport without an operating agreement and enplane less than 1,500 passengers per year; (2) Part 135 on-demand air taxis, both fixed wing and rotary.

Determination: Approved. Based on information contained in the public agency's application, the FAA has determined that each approved class accounts for less than 1 percent of the total annual enplanements at Cincinnati/Northern Kentucky International Airport.

Brief Description of Project Approved for Collection and Use at a $4.50 PFC Level: Runway 18C/36C rehabilitation.

Brief Description of Projects Approved for Collection and Use at a $3.00 PFC Level:

Rehabilitate existing glycol concrete storage tanks.

Equipment purchases—friction tester and snow removal equipment.

Terminal access/service road rehabilitation—phase 1.

Terminal 2 passenger loading bridges and gate electrification—gate 8.

Taxiway N rehabilitation.

Airfield surface markings.

Fire alarm system replacement.

Brief Description of Project Partially Approved for Collection and Use at a $3.00 PFC Level: Master plan update—2011.

Determination: Based on the FAA's experience with this type of project, the FAA has concluded that the requested amount exceeds the amount necessary to accomplish the proposed project. The approved amount was reduced to the amount the FAA believes is sufficient to accomplish the project.

Brief Description of Withdrawn Project: Install lockable manhole covers—phase 2.

Date of Withdrawal: January 17, 2011.

Decision Date: February 14, 2011.

For Further Information Contact: Cynthia Wills, Memphis Airports District Office, (901) 322-8190.

Public Agency: County of Broome, Johnson City, New York.

Application Number: 11-14-C-00-BGM.

Application Type: Impose and use a PFC.

PFC Level: $4.50.

Total PFC Revenue Approved in this Decision: $463,000.

Earliest Charge Effective Date: October 1, 2014.

Estimated Charge Expiration Date: December 1, 2015.

Class of Air Carriers Not Required To Collect PFC's: Nonscheduled/on-demand air carriers filing FAA Form 1800-31.

Determination: Disapproved. The proposed class listed two carriers that do not conform to the proposed class. Therefore, the proposed class could not be approved.

Brief Description of Projects Approved for Collection and Use:

Runway 16/34 safety area improvements design.

Runway 16/34 safety area improvements construction.

Snow removal equipment storage building improvements.

PFC administrative costs.

Decision Date: February 22, 2011.

For Further Information Contact: Andrew Brooks, New York Airports District Office, (516) 227-3816.

Amendments to PFC Approvals
Amendment No. city, state | Amendment approved date | Original approved Net PFC revenue | Amended approved net PFC revenue | Original estimated charge exp. date | Amended estimated exp. date
08-13-C-01-COS Colorado Springs, CO. | 2/04/11 | $8,307,189 | $500,000 | 03/01/14 | 05/01/11
07-13-C-01-BNA Nashville, TN | 2/15/11 | 5,874,558 | 2,344,134 | 08/01/11 | 04/01/11
08-14-C-02-BNA Nashville, TN | 2/16/11 | 27,518,418 | 20,833,179 | 01/01/16 | 06/01/16
03-03-C-01-SAN San Diego, CA | 2/17/11 | 83,075,730 | 65,058,035 | 03/01/06 | 03/01/06
09-15-C-01-BNA Nashville, TN | 2/17/11 | 11,287,500 | 6,196,434 | 06/01/17 | 09/01/16
06-07-C-06-BUR Burbank, CA | 2/18/11 | 41,346,265 | 42,946,265 | 04/01/13 | 06/01/13
09-09-C-01-BUR Burbank, CA | 2/18/11 | 20,465,000 | 21,965,000 | 01/01/15 | 05/01/15
09-10-C-01-BUR Burbank, CA | 2/18/11 | 951,400 | 951,400 | 02/01/16 | 02/01/16
07-06-C-02-SUN Halley, ID | 2/22/11 | 763,226 | 709,197 | 03/01/11 | 01/01/11

Issued in Washington, DC, on May 2, 2011.
Joe Hebert,
Manager, Financial Analysis and Passenger Facility Charge Branch.

[FR Doc. 2011-11154 Filed 5-9-11; 8:45 am]

BILLING CODE 4910-13-M